DEPARTMENT OF THE INTERIOR

Fish and Wildlife Service

Notice of Availability of a Draft Recovery Plan for the Howell's Spectacular Thelypody (Thelypodium howellii ssp. spectabilis) for Review and Comment

AGENCY: Fish and Wildlife Service, Interior.

ACTION: Notice of document availability.

SUMMARY: We, the U.S. Fish and Wildlife Service, announce the availability for public review of a draft recovery plan for the Howell's spectacular thelypody (Thelypodium howellii ssp. spectabilis). This threatened plant, a member of the mustard family, occurs on fewer than 12 small sites located within 100 acres of private lands near North Powder and Haines in eastern Oregon (Baker and Union Counties).

DATES: Comments on the draft recovery plan received by June 25, 2001, will be considered by the Service.

ADDRESSES: Copies of the draft recovery plan are available for inspection, by appointment, during normal business hours at the following location: Snake River Basin Office, U.S. Fish and Wildlife Service, 1387 S. Vinnell Way, Suite 368, Boise, Idaho 83709 (phone: 208/378-5243). Requests for copies of the draft recovery plan and written comments and materials regarding this plan should be addressed to Robert Ruesink, Field Supervisor, at the above address.

FOR FURTHER INFORMATION CONTACT: Edna Vizgirdas, Fish and Wildlife Biologist, at the above address.

SUPPLEMENTARY INFORMATION:

Background

Restoring endangered or threatened animals and plants to the point where they are again secure, self-sustaining members of their ecosystems is a primary goal of the U.S. Fish and Wildlife Service's endangered species program. To help guide the recovery effort, we are working to prepare recovery plans for most of the listed species native to the United States. Recovery plans describe actions considered necessary for the conservation of the species, establish criteria for downlisting or delisting listed species, and estimate time and cost for implementing the recovery measures needed.

The Endangered Species Act of 1973, as amended (Act) (16 U.S.C. 1531 et seq.), requires the development of recovery plans for listed species unless such a plan would not promote the conservation of a particular species. Section 4(f) of the Act requires that public notice and an opportunity for public review and comment be provided during recovery plan development. We will consider all information presented during the public comment period prior to approval of each new or revised recovery plan. Substantive technical comments will result in changes to the plans. Substantive comments regarding recovery plan implementation may not necessarily result in changes to the recovery plans, but will be forwarded to appropriate Federal or other entities so that they can take these comments into account during the course of implementing recovery actions.

The Howell's spectacular thelypody was listed as a threatened species on June 25, 1999. This taxon is endemic to the Baker-Powder River Valley in eastern Oregon. It is currently found in five populations in Baker and Union Counties, Oregon. It formerly also occurred in the Willow Creek Valley in Malheur County. The species grows in alkaline meadows in valley bottoms, usually in and around shrubs such as greasewood or rabbitbrush. The plants are threatened by habitat modification such as grazing during spring and early summer, trampling, urban development, and competition from non-native plants.

The objective of this plan is to provide a framework for the recovery of the Howell's spectacular thelypody so that protection by the Endangered Species Act is no longer necessary. Recovery is contingent upon protecting and managing the thelypody's habitat to maintain and enhance viable populations of the thelypody.

The Howell's spectacular thelypody will be considered for delisting when: (1) At least five stable or increasing thelypody populations are distributed throughout its extant or historic range and populations must be naturally reproducing with stable or increasing trends for 10 years; (2) all five populations are located on permanently protected sites; (3) management plans have been developed and implemented for each site that specifically provide for the protection of thelypody and its habitat; and (4) a post-delisting monitoring plan is in place that will monitor the status of thelypody for at least 5 years at each site.

Public Comments Solicited

We solicit written comments on the recovery plan described. All comments received by the date specified above will be considered prior to approval of this plan.

Authority: The authority for this action is section 4(f) of the Endangered Species Act, 16 U.S.C. 1533 (f).

Dated: February 6, 2001.
Rowan W. Gould,
Acting Regional Director, Region 1, Fish and Wildlife Service.

[FR Doc. 01-10378 Filed 4-25-01; 8:45 am]

BILLING CODE 4310-55-U